DEPARTMENT OF THE INTERIOR

Fish and Wildlife Service

Southern Conservation Corporation's Candidate Conservation Agreement With Assurances and Enhancement of Survival Permit Application for the Greater Adams Cave Beetle and Lesser Adams Cave Beetle

AGENCY: Fish and Wildlife Service, Interior.

ACTION: Notice of availability.

SUMMARY: We, the Fish and Wildlife Service, have received an application from Southern Conservation Corporation (Applicant) for an enhancement of survival permit (ESP) pursuant to section 10(a)(1)(A) of the Endangered Species Act of 1973 (U.S.C. 1531 et seq.), as amended (Act). With our assistance, the Applicant proposes to implement conservation measures for the greater Adams Cave beetle (Pseudanophthalmus pholeter) and lesser Adams Cave beetle (Pseudanophthalmus cataryctos), collectively known as the “the covered species,” by removing the threats to the survival of these species and protecting their habitat. We are announcing our receipt of the ESP application as well as the availability of a proposed Candidate Conservation Agreement with Assurances (CCAA) that is intended to facilitate the implementation of conservation measures for the species by the Applicant and the Service in support of on-going efforts to remove threats to their survival and provide protection of their habitat.

DATES: Written comments on the CCAA and ESP application should be sent to the Service's Regional Office (see ADDRESSES) and should be received on or before November 3, 2004.

ADDRESSES: Persons wishing to review the CCAA and ESP application may obtain copies by writing the Service's Southeast Regional Office, Atlanta, Georgia at the address below. Documents will also be available for public inspection by appointment during normal business hours at the Regional Office, 1875 Century Boulevard, Suite 200, Atlanta, Georgia 30345 (Attn: Endangered Species Permits), or Field Supervisor, Fish and Wildlife Service, 3761 Georgetown Road, Frankfort, Kentucky 40601. Written data or comments concerning the CCAA or ESP application should be submitted to the Regional Office at the address listed above and must be submitted in writing to be adequately considered in the Service's decision-making process. Please reference permit number TE-088168-0 in your comments, or in requests of the documents discussed herein.

FOR FURTHER INFORMATION CONTACT: Mr. Rick Gooch, Regional CCAA Coordinator, (see ADDRESSES above), telephone: (404) 679-7124, facsimile: (404) 679-7081; or Dr. Michael Floyd, Fish and Wildlife Biologist, Kentucky Field Office, Frankfort, Kentucky (see ADDRESSES above), telephone: (502) 695-0468.

SUPPLEMENTARY INFORMATION:

Public Review and Comments Solicited

Individuals wishing copies of the ESP application and/or copies of the full text of the proposed Agreement should contact the office and personnel listed in the ADDRESSES section above. Documents also will be available for public inspection, by appointment, during normal business hours at this office (see ADDRESSES). We provide this notice pursuant to section 10(c) of the Act and pursuant to implementing regulations for the National Environmental Policy Act (NEPA) found at (40 CFR 1506.6). All comments received on the permit application and proposed Agreement, including names and addresses, will become part of the administrative record and may be released to the public. If you wish us to withhold your name and/or address, you must state this prominently at the beginning of your comment. All submissions from organizations or companies, or from individuals representing organizations or companies, are available for public inspection in their entirety.

Background

The greater Adams Cave beetle (Pseudanophthalmus pholeter) and lesser Adams Cave beetle (Pseudanophthalmus cataryctos) are small, blind, predatory ground beetles (Family Carabidae) that are endemic to Adams Cave in Madison County, Kentucky. They were first collected in Adams Cave in 1964 and were later described by C. Krekler in 1973. The area surrounding Adams Cave is largely rural but is developing rapidly due to its close proximity to the city of Lexington, Kentucky. The cave is located on an approximate 1-acre parcel (Lot 3) within Adams Place subdivision, approximately 6 miles southwest of the city of Richmond, Kentucky. Construction is occurring on many of the building lots in the subdivision. Adams Cave is a large cave for the Bluegrass Region of Kentucky, with its passageways varying in height from approximately 5 to 60 feet and extending over 1,500 feet in length. The terrestrial habitat surrounding Adams Cave is dominated by abandoned pasture containing scattered groups of trees, including black walnut (Juglans nigra) and Kentucky coffee tree (Gymnocladus dioieus), and small clumps of cane (Arundinaria sp.).

Historically, Adams Cave has experienced extensive vandalism and was littered with trash and other debris, affecting the quality of available habitat for cave beetles. In 2002, a specially designed cave gate was installed to prevent unwanted human entry. Under the CCAA, Southern Conservation Corporation has agreed to implement several conservation measures that will reduce and/or eliminate potential threats to the species. Southern Conservation Corporation will: (1) Maintain the Adams Cave property in a natural state; (2) maintain the metal gate at the entrance to Adams Cave; and (3) control and limit access to Adams Cave and the enrolled property. Implementation of the CCAA is expected to protect and conserve habitat for the covered species, eliminate unauthorized human disturbances within Adams Cave that are believed to impact the covered species, and provide important monitoring data that can be used to develop and/or improve management strategies for the covered species and other cave-dependent species. These benefits will be obtained through restoration and protection of the above- and below-ground habitats on the enrolled property.

We will make our final determination after the end of the 30-day comment period and will fully consider all comments received during the comment period. If the final analysis shows the CCAA to be consistent with our policies and applicable regulations, we will sign the CCAA and issue the ESP. The proposed ESP would, in compliance with the CCAA Policy, only become valid on such date as the greater Adams Cave beetle and/or lesser Adams Cave beetle is listed as a threatened or endangered species under the Act.

This notice also advises the public that we have made a preliminary determination that issuance of the ESP will not result in significant environmental, economic, social, historical, or cultural impacts and is, therefore, categorically excluded from review under NEPA, pursuant to 516 Departmental Manual 2, Appendix 1 and 516 Departmental Manual 6, Appendix 1. We specifically request information, views, and opinions from the public via this notice. Further, we specifically solicit information regarding the adequacy of the CCAA as measured against our CCAA Policy.

Author

The primary author of this notice is Rick Gooch (see ADDRESSES section).

Authority: The authority for this action is the Endangered Species Act, (16 U.S.C. 1531 et seq.)

Dated: September 16, 2004.
Sam D. Hamilton,
Regional Director.

[FR Doc. 04-22261 Filed 10-1-04; 8:45 am]

BILLING CODE 4310-55-P